DEPARTMENT OF DEFENSE

Department of the Army

Notice of Intent (NOI) To Prepare an Environmental Impact Statement (EIS) To Analyze the Impacts of Grow the Army and Facilities Expansion at the Presidio of Monterey, CA

AGENCY: Department of the Army, DoD.

ACTION: Notice of intent.

SUMMARY: The Department of the Army intends to prepare an EIS for the proposed expansion of the Defense Language Institute Foreign Language Center at the Presidio of Monterey. This EIS is being prepared to analyze the potential impacts of Grow the Army and the resulting increases of student, faculty, staff populations and the construction of additional facilities to accommodate the increased population. This proposed EIS is required to support the proposed development of new facilities warranted under the new Proficiency Enhancement Program standards for foreign language training as mandated by the Department of Defense. The proposed action would include the construction of new facilities at both the Presidio and the Ord Military Community.

ADDRESSES: Written comments should be forwarded to the Department of the Army, U.S. Army Garrison Presidio of Monterey, Directorate of Public Works, Master Plans (Attention: R. Guidi), PO Box 5004, Presidio of Monterey, California 93944-5004; e-mail at robert.g.guidi@us.army.mil; or fax at 831-242-7019.

FOR FURTHER INFORMATION CONTACT: Mr. Mark Reese, Presidio of Monterey, Directorate of Public Works, Environmental Division at (831) 242-7925 (DSN 768-7925) or Mr. James Willison, Presidio of Monterey Director, Public Works (831) 242-7916 (DSN 768-7928).

SUPPLEMENTARY INFORMATION: The proposed actions at the Presidio of Monterey and Ord Military Community would support the initiatives of Grow the Army and would have both direct and indirect impacts on the environment. The areas potentially affected would include the installation (Presidio of Monterey and Ord Military Community), the neighboring cities and surrounding communities, and Monterey County. The objective of this analysis is to provide a comprehensive EIS that functions as a planning tool and incorporates public comments and information into the decision-making process. Initial screening of the proposed action and alternatives for potentially significant environmental impacts suggests the following resource areas would have the greatest potential impacts and require more comprehensive analysis in this proposed EIS: Aesthetics, housing, land use, population, public services, endangered species and critical habitat, traffic circulation and water usage.

Alternatives: The proposed action and alternatives would include, but may not be limited to, the following development scenarios: (1) No Action: The existing facilities maintenance, improvement, and/or upgrades at the Presidio of Monterey would remain without new facilities to support the Grow Army initiatives. The Ord Military Community would continue to serve as a residential housing community for military personnel and their families; (2) Alternative 1: Improvements to the Presidio of Monterey—proposes that all primary and support facilities for the Defense Language Institute Foreign Language Center would remain within the appropriate land use categories on the Presidio of Monterey. This alternative proposes to consolidate and focus new facility infrastructure within a centralized campus theme and would include new barracks, dining hall, general instruction buildings and recreation facilities; (3) Alternative 2: Improvement and Expansion of Facilities at the Presidio of Monterey and Ord Military Community. Alternative 2 is similar to Alternative 1 but instead of locating all new facilities at the Presidio of Monterey this proposes construction of new barracks, dining hall, general instructional buildings and recreation facilities at the Ord Military Community in addition to the Presidio of Monterey.

Federal, state, and local agencies, special interest groups and the public are invited to participate in the public scoping process for the preparation or this EIS. Notification of the times and locations for the scoping meetings will be published in local newspapers. Written comments to be analyzed in the Draft EIS will be accepted within 30 days of publication of this Notice of Intent in the Federal Register or 15 days after the last public scoping meeting, whichever is later.

Addison D. Davis, IV,
Deputy Assistant Secretary of the Army, (Environment, Safety, and Occupational Health).

[FR Doc. E8-30907 Filed 1-5-09; 8:45 am]

BILLING CODE 3710-08-P